DEPARTMENT OF THE INTERIOR

National Park Service

Notice of Intent To Repatriate Cultural Items in the Possession of the Rhode Island Historical Society, Providence, RI

AGENCY: National Park Service.

ACTION: Notice.

Notice is hereby given under the Native American Graves Protection and Repatriation Act, 43 CFR 10.10 (a)(3), of the intent to repatriate cultural items in the possession of the Rhode Island Historical Society, Providence, RI that meet the definition of “unassociated funerary object” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The four cultural items are two latten spoons and two small copper bells.

In 1800, these four cultural items were recovered from burials during excavations conducted by person(s) unknown at the Burr's Hill site, Warren, RI. In 1835, these cultural items were purchased by the Rhode Island Historical Society from “Chesebrough.” Museum documentation identifies these spoons as having come from an Indian interment. No further documentation is present.

Burr's Hill is believed to be located on the southern border of Sowams, a Wampanoag village. Sowams is identified in historical documents of the 16th and 17th centuries as a Wampanoag village, and was ceded to the English in 1653 by Massasoit and his eldest son Wamsutta (Alexander). Sporadic finds and excavations have been made at this site since the middle of the 19th century through the early 20th century. Based the presence of European trade goods and types of cultural items, these cultural items have been dated to between A.D. 1600-1710. Based on accession records and condition of the cultural items, these cultural items have been determined to be grave goods.

Based on the above-mentioned information, officials of the Rhode Island Historical Society have determined that, pursuant to 43 CFR 10.2 (d)(2)(ii), these four cultural items are reasonably believed to have been placed with or near individual human remains at the time of death or later as part of the death rite or ceremony and are believed, by a preponderance of the evidence, to have been removed from a specific burial site of an Native American individual. Officials of the Rhode Island Historical Society also have determined that, pursuant to 43 CFR 10.2 (e), there is a relationship of shared group identity that can be reasonably traced between these items and the Wampanoag Repatriation Confederation, representing the Wampanoag Tribe of Gay Head (Aquinnah), the Mashpee Wampanoag (a non-Federally recognized Indian group), and the Assonet Band of the Wampanoag Nation (a non-Federally recognized Indian group). This notice has been sent to officials of the Wampanoag Repatriation Confederation, the Wampanoag Tribe of Gay Head (Aquinnah), the Mashpee Wampanoag (a non-Federally recognized Indian group), the Assonet Band of the Wampanoag Nation (a non-Federally recognized Indian group), the Narragansett Indian Tribe of Rhode Island, and the Council of Seven/Royal House of Pokanoket/Pokanoket Tribe/Wampanoag Nation (a non-Federally recognized Indian group). Representatives of any other Indian tribe that believes itself to be culturally affiliated with these unassociated funerary objects should contact Linda Eppich, Chief Curator, The Rhode Island Historical Society, 110 Benevolent Street, Providence, RI 02906, telephone (401) 331-8575, before November 1, 2000. Repatriation of these unassociated funerary objects to the Wampanoag Repatriation Confederation, representing the Wampanoag Tribe of Gay Head (Aquinnah), the Mashpee Wampanoag (a non-Federally recognized Indian group), and the Assonet Band of the Wampanoag Nation (a non-Federally recognized Indian group) may begin after that date if no additional claimants come forward.

Dated: September 21, 2000.
John Robbins,
Assistant Director, Cultural Resources Stewardship and Partnerships.

[FR Doc. 00-25129 Filed 9-29-00; 8:45 am]

BILLING CODE 4310-70-F